DEPARTMENT OF TRANSPORTATION

Federal Highway Administration

Environmental Impact Statement: Wayne County, Michigan

AGENCY: Federal Highway Administration (FHWA), DOT.

ACTION: Notice of intent.

SUMMARY: The FHWA is issuing this notice to advise the public that an environmental impact statement (EIS) will be prepared for a proposed intermodal freight terminal in Wayne County, Michigan.

FOR FURTHER INFORMATION CONTACT: James A. Kirschensteiner, Assistant Division Administrator, Federal Highway Administration, 315 West Allegan Street, Room 207, Lansing, Michigan 48933, Telephone: (517) 702-1835, Fax: 377-1804, e-mail, james.kirchensteiner@fhwa.dot.gov.

SUPPLEMENTARY INFORMATION: The FHWA, in cooperation with the Michigan Department of Transportation, will prepare an environmental impact statement (EIS) on a proposal to develop a complex of terminals operated by several railroads, which will provide consolidated and efficient intermodal freight service to business and industry. The project could include land acquisition, consolidation, roadway, and rail improvements to improve access and egress to the existing terminal site, known as the Detroit-Livernois Yard.

Improvements to the corridor are considered necessary to provide for improved intermodal efficiencies regionally and on an international scale. Alternatives under consideration include (1) taking no action and (2) refinements of Rail Strategy 3 as identified in the Detroit Intermodal Freight Terminal Project—Feasibility Study, Technical Report No. 4. The draft EIS will describe other alternatives that were considered during the feasibility phase.

The Detroit Intermodal Freight Terminal Project study area is bounded roughly by I-94 and U.S. 12 to the north, M-39 to the west, I-75 to the south, and M-10 to the east. Presently about 65 train movements occur daily at some point within the study area, with less than half being through movements. Rail Strategy 3, as it is now conceived, calls for expanding the existing railroad-controlled property in this area from about 500 acres to 840 acres (an increase of 340 acres). The freight terminal would be served by six entrance/exit gates. Daily intermodal train traffic is expected to grow by the year 2025 from fewer than a dozen today to 50-plus, and be associated with 16,000 intermodal truck movements per day into and out of the terminal in 2025 compared to 2000 truck trips today.

Letters describing the proposed action and soliciting comments will be sent to appropriate federal, state, and local agencies, and to private organizations and citizens who have previously expressed or are known to have an interest in this proposal. A series of public meetings were held during the Feasibility Study phase on March 13, April 24, May 23-24, July 25-26, October 24-25, and December 13, 2001. Additional meetings and a public hearing are planned. Public notice will be given of the time and place of the meetings and hearing. The draft EIS will be available for public and agency review and comment prior to the public hearing. No formal scoping meeting is planned at this time.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program.)
Issued on: February 27, 2002.
James J. Steele,
Division Administrator, Lansing, Michigan.

[FR Doc. 02-5945 Filed 3-12-02; 8:45 am]

BILLING CODE 4910-22-M